NATIONAL LABOR RELATIONS BOARD

Privacy Act of 1974; Publication of Notices of Systems of Records

AGENCY: National Labor Relations Board (NLRB).

ACTION: Notification of the establishment of twelve systems of records, nine of which consist of an electronic case tracking system and associated paper or electronic files, and the remaining three systems consist of electronic case tracking systems only.

SUMMARY: Pursuant to the provisions of the Privacy Act of 1974, 5 U.S.C. 552a, the Agency publishes this notice of its intention to establish twelve systems of records. Nine of these systems consist of an electronic case tracking system and associated paper or electronic files, and the remaining systems, NLRB-22, NLRB-26, and NLRB-31, consist of electronic case tracking systems only. The electronic case tracking systems and associated paper or electronic files permit the accurate and timely collection, retrieval, and retention of information maintained by offices of the Agency, regarding those offices’ handling of matters before them, including unfair labor practice, representation, or Freedom of Information Act cases.

All persons are advised that, in the absence of submitted comments considered by the Agency as warranting modification of the notices as here proposed, it is the intention of the Agency that the notices shall be effective upon expiration of the comment period without further action.

DATES: Written comments must be submitted no later than January 22, 2007.

ADDRESSES: All persons who desire to submit written comments for consideration by the Agency in connection with the proposed notices of systems of records shall file them with the Privacy Officer, National Labor Relations Board, Room 7608, 1099 14th Street, NW., Washington, DC 20570-0001. Comments on these notices may also be submitted electronically to PrivacyActComments@nlrb.gov.

Copies of all such comments will be available for examination during normal business hours (8:30 a.m. to 5 p.m. Monday through Friday, excluding federal holidays) in the Agency's Reading Room, located in the Case Records Unit, National Labor Relations Board, Room 9201, 1099 14th Street, NW., Washington, DC 20570-0001.

FOR FURTHER INFORMATION CONTACT: Tommie Gregg, Sr., Privacy Officer, National Labor Relations Board, Room 7608, 1099 14th Street, NW., Washington, DC 20570-0001, (202) 273-2833, Tommie.Greggsr@nlrb.gov.

SUPPLEMENTARY INFORMATION: Pursuant to subsection (k)(2) of the Privacy Act, 5 U.S.C. 552a(k)(2), the Agency proposes to exempt several of the systems of records (or portions of some systems) from the following subsections of the Privacy Act: (c)(3), (d), (e)(1), (e)(4)(G), (e)(4)(H), (e)(4)(I), and (f). The Agency's notice of proposed rulemaking setting forth this proposed exemption appears elsewhere in today's issue of the Federal Register.

A report of the proposal to establish these systems of records was filed pursuant to 5 U.S.C. § 552a(r) with Congress and the Office of Management and Budget.

General Prefatory Information

A. All references to the Agency's “unfair labor practice cases” in these notices include the portion of such cases known as “compliance,” during which the Agency seeks effectuation of remedial provisions of a settlement agreement, Board order, or court judgment enforcing a Board order. (See NLRB Casehandling Manual, Part Three—Compliance Proceedings, § 10500.1).

B. Standard Routine Uses of the Records. The following routine uses apply to and are incorporated by reference into most of the systems of records published below, as described below for each system.

Records may be disclosed:

1. To a federal, state, or local agency (including a bar association or other legal licensing authority), charged with the responsibility for investigating, defending, or pursuing violations of law or rule (civil, criminal, or regulatory in nature), in any case in which there is an indication of a violation or potential violation of law or rule;

2. In a federal, state, or local proceeding or hearing, which is administrative, judicial, or regulatory, in accordance with the procedures governing such disclosure and proceeding or hearing, including, but not limited to, National Labor Relations Board Rule § 102.118, 29 CFR § 102.118, and such records are determined by the Agency to be arguably relevant to the litigation;

3. To the Agency's legal representative, including the Department of Justice and other outside counsel, where the Agency is a party in litigation or has an interest in litigation, including when any of the following is a party to litigation or has an interest in such litigation: (a) The Agency, or any component thereof; (b) any employee of the Agency in his or her official capacity; (c) any employee of the Agency in her or her individual capacity, where the Department of Justice has agreed or is considering a request to represent the employee; or (d) the United States, where the Agency determines that litigation is likely to affect the Agency or any of its components;

4. To a party or his or her representative in an Agency administrative unfair labor practice or representation proceeding or related judicial proceeding, for the purpose of: (a) Negotiation or discussion on matters in furtherance of resolving the proceeding; (b) providing such persons with information concerning the progress or results of the Agency administrative or judicial proceeding; or (c) ensuring due process in the Agency's administrative proceedings by disclosing copies of all documents referenced by the Agency's Casehandling Manual, Part One, Unfair Labor Practice Proceedings § 11842 (.1-.3), or releasing documents in accordance with the Board's Rules and Regulations;

5. To any person who, during the course of an Agency administrative unfair labor practice or representation proceeding or related judicial proceeding, is a source for information or assists in such proceeding, to the extent necessary to obtain relevant information or assistance or for a reason compatible with the purpose for which the record was collected;

6. To a federal, state, local, or foreign agency or agent, in order to: (a) Aid in the Agency's collection, administration, and disbursement of remedial funds owed under the NLRA; or (b) assist in collecting an overdue debt owed to the United States by an unfair labor practice respondent;

7. To individuals who need the information in connection with the processing of an internal Agency grievance;

8. To an arbitrator to resolve disputes under a negotiated Agency grievance arbitration procedure;

9. To officials of labor organizations recognized under 5 U.S.C., chapter 71, when disclosure is not prohibited by law, and the data is normally maintained by the Agency in the regular course of business and is necessary for a full and proper discussion, understanding, and negotiation of subjects within the scope of collective bargaining. The foregoing shall have the identical meaning as 5 U.S.C. 7114(b)(4);

10. To a member of Congress or to a congressional staff member in response to an inquiry of the congressional office made at the request of the constituent about whom the records are maintained;

11. To the public, news media, and other individuals and organizations, concerning unfair labor practice or representation proceedings, limited as follows: Administrative unfair labor practice or representation hearings are usually open to the public, pursuant to 29 CFR 102.34 and 102.64, and formal documents (those documents traditionally considered by the Agency to be publicly available) are made available for public inspection under the Freedom of Information Act (FOIA), 5 U.S.C. 552. Additionally, Board decisions are posted on the Agencys Web site at http://www.nlrb.gov, see 5 U.S.C. 552(a)(2)(A) and (E), and may be distributed to publishers. Party and party-representative contact information is also made available to the public on the Agency's Web site. Information that would not be exempt from disclosure under the FOIA may also be released to the news media, in order to provide information on events in an administrative or judicial proceeding. Such information that would not be exempt from disclosure under the FOIA is also used to respond to inquiries from governmental, non-profit, business, labor, and legal organizations, as well as academic researchers, concerning pending related legislation and Agency performance;

12. To FOIA requesters, when the Agency discloses requested documents under the circumstances of the Agency's discretionary release policy, set forth in the Agency's FOIA Manual (available on the Agencys Web site at http:/www.nlrb.gov);

13. To the following federal agencies: (a) The Office of Management and Budget in order to obtain advice regarding the Agencys obligations under the Privacy Act, or to assist with the Agency's budget requests; (b) the Department of Justice in order to obtain advice regarding the Agency's obligations under the Freedom of Information Act; or (c) the National Archives and Records Administration, in records management inspections conducted under the authority of 44 U.S.C. 2904 and 2906;

14. To contractors, for the purpose of reproduction, by typing, photocopying, or other means, of any record within the system for use by the Agency;

15. To contractors and other federal agencies, for the purpose of assisting the Agency in further development and continuing maintenance of electronic case tracking systems; and

16. To agencies of the United States Government, or to foreign or international law enforcement or administrative authorities, in order to comply with requirements imposed by, or to claim rights conferred in, international agreements and arrangements in which the United States participates.

Dated: Washington, DC November 15, 2006.
By direction of the Board.
Lester A. Heltzer ,
Executive Secretary.

NLRB-21, Judicial Case Management System-Pending Case List (JCMS-PCL) and Associated Headquarters Files

NLRB-22, Judicial Case Management System-eRoom (JCMS-eRoom)

NLRB-23, Solicitor's System (SOL) and Associated Headquarters Files

NLRB-24, Trial Information Gathered on Electronic Records (TIGER) and Associated Agency Files

NLRB-25, Case Activity Tracking System (CATS) and Associated Regional Office Files

NLRB-26, Litigation Information on the Network (LION)

NLRB-27, Special Litigation Branch Case Tracking System (SPLIT) and Associated Headquarters Files

NLRB-28, Regional Advice and Injunction Litigation System (RAILS) and Associated Headquarters Files

NLRB-29, Work in Progress Database (WIP) and Associated Headquarters Files

NLRB-30, Appeals Case Tracking System (ACTS) and Associated Headquarters Files

NLRB-31, Office of Appeals Extension of Time System (EOTS)

NLRB-32, Freedom of Information Act Tracking System (FTS) and Associated Agency Files

NLRB-21

SYSTEM NAME:

Judicial Case Management System-Pending Case List (JCMS-PCL) and Associated Headquarters Files.

SECURITY CLASSIFICATION:

None.

SYSTEM LOCATION:

Records are stored on paper and electronic media at Agency Headquarters, Office of the Executive Secretary, 1099 14th Street, NW., Washington, DC 20570. Additionally, pursuant to the Agency's flexiplace and telecommuting programs, or due to official travel, JCMS-PCL may also be accessed from alternative worksites via the Internet, including employees’ homes. Associated Headquarters Files (or copies of such files) also may be temporarily located at alternative worksites. All appropriate safeguards will be taken at these sites.

CATEGORIES OF INDIVIDUALS COVERED BY THE SYSTEM:

Individual Respondents in unfair labor practice cases before the members of the National Labor Relations Board (“the Board”); individual Employers in representation cases before the Board; current and former Agency employees assigned to cases.

CATEGORIES OF RECORDS IN THE SYSTEM:

(1) Summary information of unfair labor practice and representation cases before the Board (such as names of parties, case status, and Agency personnel assignments) is maintained in an electronic case tracking system, JCMS-PCL. (2) Associated Headquarters Files are paper records established and maintained for processing unfair labor practice and representation proceedings before the Board. These records include the Official Case Records maintained in the Agency's Headquarters. The paper records are administrative and court records (such as unfair labor practice charges, unfair labor practice complaints and answers, representation petitions, briefs, motions and orders), correspondence, legal research memoranda, and other related documents. These records include the names of parties, and Agency employees assigned to the cases. JCMS-PCL and Associated Headquarters Files may include parties’ home addresses and home telephone numbers, if such information is provided to the Agency. Portions of these records include civil investigatory and law enforcement information.

AUTHORITY FOR MAINTENANCE OF THE SYSTEM:

29 U.S.C. 159, 160, 161; 44 U.S.C. 3101; and the Government Performance and Results Act of 1993, Pub.L. 103-62, 107 Stat. 285 (codified in sections of Titles 5, 31, and 39 of the U.S. Code).

PURPOSE:

JCMS-PCL is an electronic case tracking system used by the Offices of the Board (Members and their staffs, the Office of Representation Appeals, the Office of the Solicitor, and the Office of the Executive Secretary) to facilitate the accurate and timely collection, retrieval, and retention of information regarding the processing of unfair labor practice and representation cases before the Board. The information and activities tracked by the system may be generated by the parties’ filing of briefs, motions, and other documents, or by deliberative, analytical processes undertaken by Board employees assigned to cases. This database stores current and historical information, and is used to generate data for managing the Agency's case processing and resources, creating the Agency's budget, preparing monthly and annual reports of casehandling activities, and providing requested statistical reports to the public. Limited information from JCMS-PCL is imported into NLRB-25, the Case Activity Tracking System (CATS), which is a system of records that tracks cases for the Agency's Regional Offices. Party and party-representative contact information from JCMS-PCL is also made available to the public on the Agency's Web site at http://www.nlrb.gov. Associated Headquarters Files are paper files maintained to adjudicate or otherwise resolve matters handled by the Board. These records include the Official Case Records maintained in the Agency's Headquarters. Other offices of the Agency, including the Division of Judges located at Agency Headquarters and the Division of Enforcement Litigation's Appellate Court Branch, also use these records for case processing purposes. JCMS-PCL and Associated Headquarters Files may also be used to assist in evaluating Agency employees.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by the names of individual Respondents in unfair labor practice cases before the Board; names of individual Employers in representation cases before the Board; names of current and former Agency employees assigned to cases; as well as by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. Associated Headquarters Files are maintained in staffed or locked areas during working hours. The facilities are protected from unauthorized access during non-working hours by the Federal Protective Service or other security personnel. Those Agency Headquarters employees who telecommute and may possess Associated Headquarters Files (or copies of such files) at alternative worksites or who may access JCMS-PCL from alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

JCMS-PCL information will be retained and disposed of in accordance with appropriate Agency schedules that will be submitted to the National Archives and Records Administration (NARA) for its approval. Associated Headquarters Files are disposed of in accordance with the Agency's Disposition Standards Records, as approved by NARA.

SYSTEM MANAGER AND ADDRESS:

Executive Secretary, National Labor Relations Board, Room 11600, 1099 14th Street, NW., Washington, DC 20570-0001.

NOTIFICATION PROCEDURES:

For records not exempted under 5 U.S.C. 552a(k)(2) of the Privacy Act, an individual may inquire as to whether this system contains a record pertaining to such individual by directing a request to the System Manager in accordance with the procedures set forth in 29 CFR § 102.117a(a) (as newly designated in accompanying proposed amended regulations).

RECORD ACCESS PROCEDURE:

For records not exempted under 5 U.S.C. 552a(k)(2) of the Privacy Act, an individual seeking to gain access to records in this system pertaining to such individual should contact the System Manager in accordance with the procedures set forth in 29 CFR § 102.117a(b) and (c) (as newly designated in accompanying proposed amended regulations).

CONTESTING RECORD PROCEDURE:

For records not exempted under 5 U.S.C. § 552a(k)(2) of the Privacy Act, an individual may request amendment of a record in this system pertaining to such individual by directing a request to the System Manager in accordance with the procedures set forth in 29 CFR 102.117a(d) (as newly designated in accompanying proposed amended regulations).

RECORDS SOURCE CATEGORIES:

For records not exempted under 5 U.S.C. § 552a(k)(2) of the Privacy Act, record source categories include parties in unfair labor practice and representation cases; party representatives; witnesses in Board proceedings; and individual Agency employees. Record source categories also include documents relating to the processing of unfair labor practice or representation cases by the Board, such as unfair labor practice charges and complaints, representation petitions, administrative law judge determinations, Board decisions, and decisions from United States courts of appeal. JCMS-PCL also receives electronic data from NLRB-22, JCMS-eRoom.

EXEMPTIONS CLAIMED FOR THE SYSTEM:

Pursuant to 5 U.S.C. 552a(k)(2), the Agency has exempted portions of this system, including records relating to requests pursuant to Section 10(j) of the NLRA (29 U.S.C. 160(j)), requests to pursue federal court contempt proceedings, and certain requests that the Board initiate litigation or intervene in non-Agency litigation, from the following provisions of the Privacy Act: 5 U.S.C. § 552a (c)(3), (d), (e)(1), (e)(4)(G), (e)(4)(H), (e)(4)(l), and (f).

NLRB-22

SYSTEM NAME:

Judicial Case Management System-eRoom (JCMS-eRoom)

SECURITY CLASSIFICATION:

None.

SYSTEM LOCATION:

Records are stored on electronic media at Agency Headquarters, Office of the Executive Secretary, 1099 14th Street, NW., Washington, DC 20570. Additionally, pursuant to the Agency's flexiplace and telecommuting programs, or due to official travel, JCMS-eRoom may also be accessed from alternative worksites via the Internet, including employees' homes. All appropriate safeguards will be taken at these sites.

CATEGORIES OF INDIVIDUALS COVERED BY THE SYSTEM:

Individual Charged Parties and Respondents in unfair labor practice cases before the five-member National Labor Relations Board (“the Board”); individual Employers in representation cases before the Board; current and former Agency employees assigned to cases.

CATEGORIES OF RECORDS IN THE SYSTEM:

Summary information of unfair labor practice and representation cases before the Board (such as names of parties, case status, and Agency personnel assignments) is maintained in an electronic case tracking system, JCMS-eRoom. JCMS-eRoom also provides a collaborative electronic space where documents are contained in a structured repository. These records include the names of parties, and Agency employees assigned to the cases.

AUTHORITY FOR MAINTENANCE OF THE SYSTEM:

29 U.S.C. 159, 160, 161; 44 U.S.C. 3101.

PURPOSE:

JCMS-eRoom is an electronic case tracking system used by the Offices of the Board (Members and their staffs, the Office of Representation Appeals, the Office of the Solicitor, and the Office of the Executive Secretary) to facilitate the accurate and timely collection, retrieval, and retention of information regarding the processing of unfair labor practice and representation cases before the Board. JCMS-eRoom is also used by Board employees to electronically collaborate on the drafting of decisions and disposition of cases. The information and activities tracked by the system may be generated by the parties' filing of briefs, motions, and other documents, or by deliberative, analytical processes undertaken by Board employees assigned to cases. This database stores current and historical information, and is used to generate data for managing the Agency's case processing and resources. Limited information from JCMS-eRoom is imported into NLRB-21, JCMS-PCL. JCMS-eRoom may also be used to assist in evaluating Agency employees.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on electronic media.

RETRIEVABILITY:

Data may be retrieved by the names of individual Charged Parties and Respondents in unfair labor practice cases before the Board; names of individual Employers in representation cases before the Board; names of current and former Agency employees assigned to cases; as well as by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. The facilities are protected from unauthorized access during non-working hours by the Federal Protective Service or other security personnel. Those Agency Headquarters employees who telecommute and may access JCMS-eRoom from alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

JCMS-eRoom information will be retained and disposed of in accordance with appropriate Agency schedules that will be submitted to the National Archives and Records Administration (NARA) for its approval.

SYSTEM MANAGER AND ADDRESS:

Executive Secretary, National Labor Relations Board, Room 11600, 1099 14th Street, NW., Washington, DC 20570-0001.

NOTIFICATION PROCEDURES:

An individual may inquire as to whether this system contains a record pertaining to such individual by directing a request to the System Manager in accordance with the procedures set forth in 29 CFR 102.117a(a) (as newly designated in accompanying proposed amended regulations).

RECORD ACCESS PROCEDURE:

An individual seeking to gain access to records in this system pertaining to such individual should contact the System Manager in accordance with the procedures set forth in 29 C.F.R. 102.117a(b) and (c) (as newly designated in accompanying proposed amended regulations).

CONTESTING RECORD PROCEDURE:

An individual may request amendment of a record in this system pertaining to such individual by directing a request to the System Manager in accordance with the procedures set forth in 29 CFR 102.117a(d) (as newly designated in accompanying proposed amended regulations).

RECORDS SOURCE CATEGORIES:

Record source categories include parties in unfair labor practice and representation cases; party representatives; witnesses in Board proceedings; and individual Agency employees. Record source categories also include documents relating to the processing of unfair labor practice or representation cases by the Board, such as unfair labor practice charges and complaints, representation petitions, administrative law judge determinations, Board decisions, and decisions from United States courts of appeal.

EXEMPTIONS CLAIMED FOR THE SYSTEM:

None.

NLRB-23

SYSTEM NAME:

Solicitors System (SOL) and Associated Headquarters Files.

SECURITY CLASSIFICATION:

None.

SYSTEM LOCATION:

Records are stored on paper and electronic media at Agency Headquarters, Office of the Solicitor, 1099 14th Street, NW., Washington, DC 20570. Additionally, pursuant to the Agency's flexiplace and telecommuting programs, or due to official travel, Associated Headquarters Files (or copies of such files) also may be temporarily located at alternative worksites. All appropriate safeguards will be taken at these sites.

CATEGORIES OF INDIVIDUALS COVERED BY THE SYSTEM:

Individual Charged Parties and Respondents in unfair labor practice case matters regarding which the Office of the Solicitor advises the five-member National Labor Relations Board (“the Board”); individual Employers in representation case matters regarding which the Office of the Solicitor advises the Board; non-Agency attorneys who are the subjects of disciplinary proceedings under Section 102.177 of the Board's Rules and Regulations; individuals who have filed petitions for rulemaking with the Board; current and former Agency employees assigned to cases.

CATEGORIES OF RECORDS IN THE SYSTEM:

(1) Summary information (such as names of parties, case status, and Agency personnel assignments) of matters regarding which the Office of the Solicitor advises the Board (including limited unfair labor practice and representation case matters, requests to initiate litigation or intervene in non-Board litigation, cases under Section 102.177 of the Board's Rules and Regulations, and petitions for rulemaking) is maintained in an electronic case tracking system, SOL. (2) Associated Headquarters Files are paper records established and maintained for processing the matters regarding which the Office of the Solicitor advises the Board. The paper records are administrative and court records (such as unfair labor practice charges, unfair labor practice complaints and answers, representation petitions, briefs, motions and orders), Section 102.177 charges and complaints, petitions for rulemaking, correspondence, and intra-agency memoranda (such as requests for authorization from the Board to initiate court litigation, legal research memoranda, and other related documents). These records include the names of parties and Agency employees assigned to the cases. SOL and Associated Headquarters Files may include parties' home addresses and home telephone numbers, if such information is provided to the Agency. Portions of these records include civil investigatory and law enforcement information.

AUTHORITY FOR MAINTENANCE OF THE SYSTEM:

29 U.S.C. 159, 160, 161; 44 U.S.C. 3101.

PURPOSE:

SOL is an electronic case tracking system used by the Office of the Solicitor to facilitate the accurate and timely collection, retrieval, and retention of information regarding the processing of unfair labor practice, representation, and other case matters regarding which the Office of the Solicitor advises the Board. The information and activities tracked by the system may be generated by the parties' filing of briefs, motions, and other documents, or by deliberative, analytical processes undertaken by Board employees assigned to cases. This database stores current and historical information, and is used to generate data for managing the Agency's case processing and resources, and preparing quarterly and annual reports of casehandling activities. Associated Headquarters Files are paper files maintained to aid in resolving matters advised on by the Solicitor's Office. The Associated Headquarters Files may also be used to assist in evaluating Agency employees.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by the names of individual Charged Parties and Respondents in unfair labor practice case matters regarding which the Office of the Solicitor advises the Board; names of individual Employers in representation case matters regarding which the Office of the Solicitor advises the Board; names of non-Agency attorneys who are the subjects of disciplinary proceedings under Board Rule and Regulation Section 102.177; names of individuals who have filed petitions for rulemaking with the Board; names of current and former Agency employees assigned to cases; as well as by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. Associated Headquarters Files are maintained in staffed or locked areas during working hours. The facilities are protected from unauthorized access during non-working hours by the Federal Protective Service or other security personnel. Those Agency Headquarters employees who telecommute and may possess Associated Headquarters Files (or copies of such files) at alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

SOL information will be retained and disposed of in accordance with appropriate Agency schedules that will be submitted to the National Archives and Records Administration (NARA) for its approval. Associated Headquarters Files are disposed of in accordance with the Agency's Disposition Standards Records, as approved by NARA.

SYSTEM MANAGER AND ADDRESS:

Solicitor, National Labor Relations Board, Room 11800, 1099 14th Street, NW, Washington, DC 20570-0001

NOTIFICATION PROCEDURES:

For records not exempted under 5 U.S.C. 552a(k)(2) of the Privacy Act, an individual may inquire as to whether this system contains a record pertaining to such individual by directing a request to the System Manager in accordance with the procedures set forth in 29 CFR 102.117a(a) (as newly designated in accompanying proposed amended regulations).

RECORD ACCESS PROCEDURE:

For records not exempted under 5 U.S.C. 552a(k)(2) of the Privacy Act, an individual seeking to gain access to records in this system pertaining to such individual should contact the System Manager in accordance with the procedures set forth in 29 CFR 102.117a(b) and (c) (as newly designated in accompanying proposed amended regulations).

CONTESTING RECORD PROCEDURE:

For records not exempted under 5 U.S.C. 552a(k)(2) of the Privacy Act, an individual may request amendment of a record in this system pertaining to such individual by directing a request to the System Manager in accordance with the procedures set forth in 29 CFR 102.117a(d) (as newly designated in accompanying proposed amended regulations).

RECORDS SOURCE CATEGORIES:

For records not exempted under 5 U.S.C. 552a(k)(2) of the Privacy Act, record source categories include parties in unfair labor practice cases, representation cases, Section 102.177 cases, and petitions for rulemaking; party representatives; witnesses in Board proceedings; and individual Agency employees. Record source categories also include documents relating to the processing of cases regarding which the Solicitor is advising the Board, such as unfair labor practice charges and complaints, representation petitions, administrative law judge determinations, Board decisions, and decisions from United States courts of appeal.

EXEMPTIONS CLAIMED FOR THE SYSTEM:

Pursuant to 5 U.S.C. 552a(k)(2), the Agency has exempted portions of this system, including records relating to requests pursuant to Section 10(j) of the NLRA (29 U.S.C. 160(j)), requests to pursue federal court contempt proceedings, and certain requests that the Board initiate litigation or intervene in non-Agency litigation, from the following provisions of the Privacy Act: U.S.C. 552a (c)(3), (d), (e)(1), (e)(4)(G), (e)(4)(H), (e)(4)(l), and (f).

NLRB-24

SYSTEM NAME:

Trial Information Gathered on Electronic Records (TIGER) and Associated Agency Files.

SECURITY CLASSIFICATION:

None.

SYSTEM LOCATION:

Records are stored on electronic media at Agency Headquarters, Division of Judges, and on paper and electronic media at the Division of Judges’ satellite offices in San Francisco, California, New York, New York, and Atlanta, Georgia. See attached Appendix for addresses. Additionally, pursuant to the Agency's flexiplace and telecommuting programs, or due to official travel, TIGER may also be accessed from alternative worksites via the Internet, including employees’ homes. Associated Agency Files (or copies of such files) also may be temporarily located at alternative worksites. All appropriate safeguards will be taken at these sites.

CATEGORIES OF INDIVIDUALS COVERED BY THE SYSTEM:

Individual Respondents in pending unfair labor practice cases before the Division of Judges and individual Employers in pending representation cases before the Division of Judges; Agency Administrative Law Judges assigned to pending cases.

CATEGORIES OF RECORDS IN THE SYSTEM:

(1) Summary information of pending unfair labor practice and representation cases before the Division of Judges (such as names of parties, case status, and Agency Administrative Law Judges assigned to cases) is maintained in an electronic case tracking system, TIGER. (2) Associated Agency Files are paper records established and maintained for processing unfair labor practice and representation cases before the Division of Judges. The paper records are administrative records (such as unfair labor practice charges, unfair labor practice complaints and answers, representation petitions, briefs, motions and orders), correspondence, legal memoranda, and other related documents. These records include the names of parties and Agency Administrative Law Judges assigned to the cases. Some of these paper records are electronically scanned and placed in an eRoom for the Division of Judges to use in resolving cases. Both TIGER and the Associated Agency Files may include parties’ home addresses and home telephone numbers, if such information is provided to the Agency.

AUTHORITY FOR MAINTENANCE OF THE SYSTEM:

5 U.S.C. 554(d), 556, 557, 3105; 29 U.S.C. 153(d), 159, 160, 161; 44 U.S.C. 3101.

PURPOSE:

TIGER is an electronic case tracking system used by the Agency's Division of Judges to facilitate the accurate and timely collection, retrieval, and retention of information regarding unfair labor practice and representation cases before the Division. The information and activities tracked by the system may be generated by the parties’ filing of briefs, motions, and other documents, or by deliberative, analytical processes undertaken by the Agency's Administrative Law Judges or their staffs. This database stores current and historical information, and is used to generate data for managing the Agency's case processing and resources, creating the Agency's budget, preparing monthly and annual reports of casehandling activities, and providing requested statistical reports to the public. Associated Agency Files are paper files maintained to adjudicate or otherwise resolve matters handled by the Division of Judges.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by names of individual Respondents in pending unfair labor practice cases before the Division of Judges; names of individual Employers in pending representation cases before the Division of Judges; individual numeric codes for Agency Administrative Law Judges assigned to pending cases; as well as by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. Associated Agency Files are maintained in staffed or locked areas during working hours. The facilities are protected from unauthorized access during non-working hours by the Federal Protective Service or other security personnel. Those Agency employees who telecommute and may possess Associated Agency Files (or copies of such files) at alternative worksites or who may access TIGER from alternative worksites are instructed as to keeping such information in a secure manner.

Electronic system-based access controls are in place to prevent data misuse. Access to electronic information is controlled by administrators who determine users’ authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

TIGER information will be retained and disposed of in accordance with appropriate Agency schedules that will be submitted to the National Archives and Records Administration (NARA) for its approval. Associated Agency Files are disposed of in accordance with the Agency's Disposition Standards Records, as approved by NARA.

SYSTEM MANAGER AND ADDRESS:

Chief Administrative Law Judge, Division of Judges, National Labor Relations Board, Room 5400, 1099 14th Street, NW., Washington, DC 20570-0001.

NOTIFICATION PROCEDURE:

An individual may inquire as to whether this system contains a record pertaining to such individual by directing a request to the System Manager in accordance with the procedures set forth in 29 CFR 102.117a(a) (as newly designated in accompanying proposed amended regulations).

RECORD ACCESS PROCEDURE:

An individual seeking to gain access to records in this system pertaining to such individual should contact the System Manager in accordance with the procedures set forth in 29 CFR 102.117a(b) and (c) (as newly designated in accompanying proposed amended regulations).

CONTESTING RECORD PROCEDURE:

An individual may request amendment of a record in this system pertaining to such individual by directing a request to the System Manager in accordance with the procedures set forth in 29 CFR 102.117a(d) (as newly designated in accompanying proposed amended regulations).

RECORDS SOURCE CATEGORIES:

Record source categories include parties in unfair labor practice and representation cases; party representatives; and witnesses in Board proceedings. Record source categories also include official documents from the record of unfair labor practice and representation cases before the Division of Judges, such as unfair labor practice charges and complaints, representation petitions, exhibits to administrative proceedings, administrative law judge determinations, Board decisions, and decisions from United States courts of appeal.

EXEMPTIONS CLAIMED FOR THE SYSTEM:

None.

NLRB-25

SYSTEM NAME:

Case Activity Tracking System (CATS) and Associated Regional Office Files.

SECURITY CLASSIFICATION:

None.

SYSTEM LOCATION:

Records are stored on paper and electronic media at Agency Headquarters and the Regional Offices. See attached Appendix for addresses. Additionally, pursuant to the Agency's flexiplace and telecommuting programs, or due to official travel, CATS may also be accessed from alternative worksites via the Internet, including employees’ homes. Associated Regional Office Files (or copies of such files) also may be temporarily located at alternative worksites. All appropriate safeguards will be taken at these sites.

CATEGORIES OF INDIVIDUALS COVERED BY THE SYSTEM:

Individual parties in unfair labor practice and representation cases before the Agency's Regional Offices; current and former Agency employees assigned to cases.

CATEGORIES OF RECORDS IN THE SYSTEM:

(1) Summary information of unfair labor practice and representation cases before the Regional Offices (such as names of parties, case status, and Agency personnel assignments) is maintained in the electronic case tracking system, CATS. (2) Associated Regional Office Files are paper and electronic records established and maintained for processing unfair labor practice and representation proceedings before the Regional Offices. The paper records are administrative and court records (such as unfair labor practice charges, unfair labor practice complaints and answers, representation petitions, briefs, motions and orders), correspondence, legal research memoranda, and other related documents. These records include the names of parties and current and former Agency employees assigned to cases. Both CATS and the Associated Regional Office Files may include parties” home addresses and home telephone numbers, if such information is provided to the Agency. These records include civil investigatory and law enforcement information.

AUTHORITY FOR MAINTENANCE OF THE SYSTEM:

29 U.S.C. 153(d), 159, 160, 161; 44 U.S.C. 3101; and the Government Performance and Results Act of 1993, Pub.L. 103-62, 107 Stat. 285 (codified in sections of Titles 5, 31, and 39 of the U.S. Code).

PURPOSE:

CATS is an electronic case tracking system used by the Division of Operations Management and the Regional Offices of the Agency to facilitate the accurate and timely collection, retrieval, and retention of information regarding unfair labor practice and representation cases handled by the Agency. The information and activities tracked by the system may be generated by the parties' filing of unfair labor practice charges, representation petitions, briefs, motions, and other documents, or by deliberative, analytical processes undertaken by the Agency's employees. This database stores current and historical information, and is used to generate data for managing the Agency's case processing and resources, creating the Agency's budget, preparing monthly and annual reports of casehandling activities, and providing requested statistical reports to the public. Limited information in CATS is exported into JCMS-PCL. The Associated Regional Office Files are paper files maintained to litigate or otherwise resolve matters handled by the Agency. The Associated Regional Office Files may be temporarily transferred to offices at Agency Headquarters, in order to aid in resolving cases handled by those offices. In addition, some Regional Office Files are electronically scanned and placed in an eRoom for the Agency's use in resolving cases. CATS and the Associated Regional Office Files may also be used to assist in evaluating Agency employee performance.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by names of individual parties in unfair labor practice and representation cases before the Agency's Regional Offices; names of current and former Agency employees assigned to those cases; as well as by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. Regional Office Files are maintained in staffed or locked areas during working hours. The facilities are protected from unauthorized access during non-working hours by the Federal Protective Service or other security personnel. Those Agency employees who telecommute and may possess Regional Office Files (or copies of such files) at alternative worksites or who may access CATS from alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

CATS information will be retained and disposed of in accordance with appropriate Agency schedules that will be submitted to the National Archives and Records Administration (NARA) for its approval. Regional Office Files are disposed of in accordance with the Agency's Disposition Standards Records, as approved by NARA.

SYSTEM MANAGER AND ADDRESS:

Associate General Counsel, Division of Operations Management, National Labor Relations Board, Room 10200, 1099 14th Street, NW., Washington, DC 20570-0001.

NOTIFICATION PROCEDURE:

This system is exempt from this provision of the Privacy Act pursuant to 5 U.S.C. 552a(k)(2).

RECORD ACCESS PROCEDURE:

This system is exempt from this provision of the Privacy Act pursuant to 5 U.S.C. 552a(k)(2).

CONTESTING RECORD PROCEDURE:

This system is exempt from this provision of the Privacy Act pursuant to 5 U.S.C.552a(k)(2).

RECORDS SOURCE CATEGORIES:

This system is exempt from this provision of the Privacy Act pursuant to 5 U.S.C. 552a(k)(2).

EXEMPTIONS CLAIMED FOR THE SYSTEM:

Pursuant to 5 U.S.C. 552a(k)(2), the Agency has exempted this system from the following provisions of the Privacy Act: 5 U.S.C. 552a (c)(3), (d), (e)(1), (e)(4)(G), (e)(4)(H), (e)(4)(I), and (f).

NLRB-26

SYSTEM NAME:

Litigation Information on the Network (LION).

SECURITY CLASSIFICATION:

None.

SYSTEM LOCATION:

Records are stored on electronic media at Agency Headquarters, Appellate Court Branch, Division of Enforcement Litigation, 1099 14th Street, NW., Washington, DC 20570. Additionally, pursuant to the Agency's flexiplace and telecommuting programs, or due to official travel, LION may also be accessed from alternative worksites via the Internet, including employees' homes. All appropriate safeguards will be taken at these sites.

CATEGORIES OF INDIVIDUALS COVERED BY THE SYSTEM:

Individual Respondents before the Board in cases handled by the Appellate Court Branch; individual Charging Parties who have filed petitions for review in the federal courts of appeals; individual parties who have intervened in federal courts of appeals proceedings handled by the Appellate Court Branch; current and former Agency legal technicians assigned to cases.

CATEGORIES OF RECORDS IN THE SYSTEM:

Summary information of cases handled by the Appellate Court Branch in the federal courts of appeals (such as names of parties, case status, Agency personnel assignments, brief due dates, oral argument dates, and court judgment dates) is maintained in an electronic case tracking system, LION. LION may include parties' home addresses and home telephone numbers, if such information is provided to the Agency. Any paper records associated with LION are placed within the Associated Headquarters Files for JCMS-PCL (NLRB-21).

AUTHORITY FOR MAINTENANCE OF THE SYSTEM:

29 U.S.C. 159, 160(e) and (f); 44 U.S.C. 3101.

PURPOSE:

LION is an electronic case tracking system used by the Appellate Court Branch to facilitate the accurate and timely collection, retrieval, and retention of information regarding unfair labor practice cases referred to the Branch for enforcement or review in the federal courts of appeals, pursuant to section 10(e) and (f) of the National Labor Relations Act, 29 U.S.C. 160(e) and (f). The information and activities tracked by the system may be generated by the parties' filing of briefs, motions, and other documents, or by orders or other documents received from the courts of appeals. This database stores current and historical information, and is used to generate data for managing the Agency's case processing and resources, creating the Agency's budget, preparing monthly and annual reports of casehandling activities, and providing requested statistical reports to the public. Limited information from LION is exported into JCMS-PCL.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on electronic media.

RETRIEVABILITY:

Data may be retrieved by names of Individual Respondents before the Board in cases handled by the Appellate Court Branch; names of individual Charging Parties who have filed petitions for review in the federal courts of appeals; names of individual parties who have intervened in federal courts of appeals proceedings handled by the Appellate Court Branch; names of current and former Agency legal technicians; as well as by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. The facilities are protected from unauthorized access during non-working hours by the Federal Protective Service or other security personnel. Those Agency Headquarters employees who telecommute and may access LION from alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

LION information will be retained and disposed of in accordance with appropriate Agency schedules that will be submitted to the National Archives and Records Administration (NARA) for its approval.

SYSTEM MANAGER AND ADDRESS:

Deputy Associate General Counsel, Appellate Court Branch, National Labor Relations Board, Room 8100, 1099 14th Street, NW., Washington, DC 20570-0001.

NOTIFICATION PROCEDURE:

An individual may inquire as to whether this system contains a record pertaining to such individual by directing a request to the System Manager in accordance with the procedures set forth in 29 CFR 102.117a(a) (as newly designated in accompanying proposed amended regulations).

RECORD ACCESS PROCEDURE:

An individual seeking to gain access to records in this system pertaining to such individual should contact the System Manager in accordance with the procedures set forth in 29 CFR 102.117a(b) and (c) (as newly designated in accompanying proposed amended regulations).

CONTESTING RECORD PROCEDURE:

An individual may request amendment of a record in this system pertaining to such individual by directing a request to the System Manager in accordance with the procedures set forth in 29 CFR 102.117a(d) (as newly designated in accompanying proposed amended regulations).

RECORDS SOURCE CATEGORIES:

Record source categories include parties in unfair labor practice cases, and official documents from the administrative and court records of unfair labor practice cases handled by the Appellate Court Branch, such as unfair labor practice charges and complaints, exhibits to administrative proceedings, administrative law judge determinations, Board decisions, and decisions from United States courts of appeal.

EXEMPTIONS CLAIMED FOR THE SYSTEM:

None.

NLRB-27

SYSTEM NAME:

Special Litigation Branch Case Tracking System (SPLIT) and Associated Headquarters Files.

SECURITY CLASSIFICATION:

None.

SYSTEM LOCATION:

Records are stored on paper and electronic media at Agency Headquarters, Special Litigation Branch, Division of Enforcement Litigation, 1099 14th Street, NW., Washington, DC 20570. Additionally, pursuant to the Agency's flexiplace and telecommuting programs, or due to official travel, Associated Headquarters Files (or copies of such files) also may be temporarily located at alternative worksites. All appropriate safeguards will be taken at these sites.

CATEGORIES OF INDIVIDUALS COVERED BY THE SYSTEM:

Individual parties or potential parties in matters referred to or handled by the Special Litigation Branch of the Division of Enforcement Litigation; current and former Agency employees assigned to cases.

CATEGORIES OF RECORDS IN THE SYSTEM:

(1) Summary information of matters handled by the Special Litigation Branch (such as names of parties, case status, case type, due dates for court filings, and Agency personnel assignments) is maintained in an electronic case tracking system, SPLIT. (2) Associated Headquarters Files are paper records established and maintained for processing Special Litigation Branch matters. The paper records are administrative and court records (such as unfair labor practice and court complaints and answers, transcripts, exhibits, briefs, motions, Board decisions, court opinions and orders made in the adjudication of cases, and case-docketing information), correspondence, legal research memoranda, and other related documents. Both SPLIT and the Associated Headquarters Files may include parties’ home addresses and home telephone numbers, if such information is provided to the Agency. Portions of these records include civil investigatory and law enforcement information.

AUTHORITY FOR MAINTENANCE OF THE SYSTEM:

29 U.S.C. 153(d), 159, 160, 161; 44 U.S.C. 3101.

PURPOSE:

SPLIT is an electronic case tracking system used by the Special Litigation Branch to facilitate the accurate and timely collection, retrieval, and retention of information regarding the Branch's cases, including those brought under the National Labor Relations Act, the Equal Access to Justice Act, the Freedom of Information Act, the Bankruptcy Code, the Privacy Act, and actions brought to mandate or prohibit specific conduct by the Board, the General Counsel and other Agency personnel. The information and activities tracked by the system may be generated by the parties’ filing of briefs, motions, and other documents, by orders or other documents received from the Agency, bankruptcy courts, district courts, and courts of appeals, or by analytical processes undertaken by Board employees assigned to cases. This database stores current and historical information, and is used to generate data for managing the Agency's case processing and resources, creating the Agency's budget, preparing monthly and annual reports of casehandling activities, and providing requested statistical reports to the public. The Associated Headquarters Files are paper files maintained to litigate or otherwise resolve matters handled by the Branch. SPLIT and the Associated Headquarters Files may also be used to assist in evaluating Agency employee performance.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by names of individual parties or potential parties in matters referred to or handled by the Special Litigation Branch; names of current and former Agency employees assigned to cases; as well as by non-personal identifiers, such as case names and numbers assigned by the Branch.

SAFEGUARDS:

Access to Agency working and storage areas is restricted to Agency employees who have a need to use the information in order to perform their duties, custodial personnel, Federal Protective Service personnel, and other contractor and security personnel. All other persons are required to be escorted in Agency areas. Associated Headquarters Files are maintained in staffed or locked areas during working hours. The facilities are protected from unauthorized access during non-working hours by the Federal Protective Service or other security personnel. Those Agency Headquarters employees who telecommute and may possess Associated Headquarters Files (or copies of such files) at alternative worksites are instructed as to keeping such information in a secure manner.

Electronic system-based access controls are in place to prevent data misuse. Access to electronic information is controlled by administrators who determine users authorized access based on each user's office and position within the office. Access criteria, procedures, controls, and responsibilities are documented and consistent with the policies stated in a memorandum titled NLRB Access Control Standards, Password Management,” and dated January 23, 2002. All network users are also warned at the time of each network login that the system is for use by authorized users only, and that unauthorized or improper use is a violation of law.

RETENTION AND DISPOSAL:

SPLIT information will be retained and disposed of in accordance with appropriate Agency schedules that will be submitted to the National Archives and Records Administration (NARA) for its approval. Associated Headquarters Files are disposed of in accordance with the Agency's Disposition Standards Records, as approved by NARA.

SYSTEM MANAGER AND ADDRESS:

Assistant General Counsel, Special Litigation Branch, National Labor Relations Board, Room 8600, 1099 14th Street, NW., Washington, DC 20570-0001.

NOTIFICATION PROCEDURES:

For records not exempted under 5 U.S.C. 552a(k)(2) of the Privacy Act, an individual may inquire as to whether this system contains a record pertaining to such individual by directing a request to the System Manager in accordance with the procedures set forth in 29 CFR 102.117a(a) (as newly designated in accompanying proposed amended regulations).

RECORD ACCESS PROCEDURE:

For records not exempted under 5 U.S.C. 552a(k)(2) of the Privacy Act, an individual seeking to gain access to records in this system pertaining to such individual should contact the System Manager in accordance with the procedures set forth in 29 CFR § 102.117a(b) and (c) (as newly designated in accompanying proposed amended regulations).

CONTESTING RECORD PROCEDURE:

For records not exempted under 5 U.S.C. 552a(k)(2) of the Privacy Act, an individual may request amendment of a record in this system pertaining to such individual by directing a request to the System Manager in accordance with the procedures set forth in 29 CFR § 102.117a(d) (as newly designated in accompanying proposed amended regulations).

RECORDS SOURCE CATEGORIES:

For records not exempted under 5 U.S.C. 552a(k)(2) of the Privacy Act, record source categories include parties in cases and potential cases before the Special Litigation Branch, and administrative and court records in matters handled by the Special Litigation Branch (such as unfair labor practice complaints, transcripts, exhibits, briefs, motions, Board decisions, court opinions and orders made in the adjudication of cases, and case-docketing information), correspondence, legal research memoranda, and other related documents.

EXEMPTIONS CLAIMED FOR THE SYSTEM:

Pursuant to 5 U.S.C. 552a(k)(2), the Agency has exempted portions of this system, including records relating to investigative subpoena enforcement cases, injunction and mandamus actions regarding Agency cases under investigation, bankruptcy claims in cases under investigation, Freedom of Information Act cases involving investigatory records, and certain requests that the Board initiate litigation or intervene in non-Agency litigation, from the following provisions of the Privacy Act: 5 U.S.C. 552a(c)(3), (d), (e)(1), (e)(4)(G), (e)(4)(H), (e)(4)(l), and (f).

NLRB-28

SYSTEM NAME:

Regional Advice and Injunction Litigation System (RAILS) and Associated Headquarters Files.

SECURITY CLASSIFICATION:

None.

SYSTEM LOCATION:

Records are stored on paper and electronic media at Agency Headquarters, Division of Advice, 1099 14th Street, NW., Washington, DC 20570. Additionally, pursuant to the Agency's flexiplace and telecommuting programs, or due to official travel, RAILS may also be accessed from alternative worksites via the Internet, including employees' homes. Associated Headquarters Files (or copies of such files) also may be temporarily located at alternative worksites. All appropriate safeguards will be taken at these sites.

CATEGORIES OF INDIVIDUALS COVERED BY THE SYSTEM:

Individual Charged Parties and individual Respondents in unfair labor practice cases referred to the Regional Advice and Injunction Litigation Branches of the Division of Advice, including cases involving temporary injunctive relief under Section 10(j) and (l) of the National Labor Relations Act, 29 U.S.C. 169 (j), (l); current and former Agency employees assigned to cases.

CATEGORIES OF RECORDS IN THE SYSTEM:

(1) Summary information of unfair labor practice cases (such as names of parties, case status, and Agency personnel assignments) is maintained in an electronic case tracking system, RAILS. (2) Associated Headquarters Files are paper records established and maintained for processing Regional Advice and Injunction Litigation Branch cases. The paper records are administrative and court records (such as unfair labor practice charges, unfair labor practice complaints and answers, transcripts, exhibits, briefs, motions, Board decisions, court opinions and orders made in the adjudication of cases, and case-docketing information), correspondence, legal research memoranda, and other related documents. Both RAILS and the Associated Headquarters Files may include parties' home addresses and home telephone numbers, if such information is provided to the Agency. These records include civil investigatory and law enforcement information.

AUTHORITY FOR MAINTENANCE OF THE SYSTEM:

29 U.S.C. 153(d), 160(j) and (l), 161; 44 U.S.C. 3101.

PURPOSE:

RAILS is an electronic case tracking system used by the Regional Advice and Injunction Litigation Branches to facilitate the accurate and timely collection, retrieval, and retention of information regarding unfair labor practice cases referred to the Branch, including cases involving temporary injunctive relief under Section 10(j) and (l) of the National Labor Relations Act, 29 U.S.C. 160(j) and (l). The information and activities tracked by the system may be generated by the parties' filing of unfair labor practice charges, briefs, motions, and other documents, or by deliberative, analytical processes undertaken by Agency employees. This database stores current and historical information, and is used to generate data for managing the Agency's case processing and resources, creating the Agency's budget, preparing monthly and annual reports of casehandling activities, and providing requested statistical reports to the public. The Associated Headquarters Files are paper files maintained to litigate or otherwise resolve matters handled by the Branches. RAILS and the Associated Headquarters Files may also be used to assist in evaluating Agency employee performance.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by names of individual Charged Parties and individual Respondents in unfair labor practice cases referred to the Regional Advice Branch; names of individual Charged Parties and individual Respondents in unfair labor practice cases involving temporary injunctive relief under Section 10(j) and (l) of the National Labor Relations Act referred to the Injunction Litigation Branch; names of current and former Agency employees assigned to cases; and by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. Associated Headquarters Files are maintained in staffed or locked areas during working hours. The facilities are protected from unauthorized access during non-working hours by the Federal Protective Service or other security personnel. Those Agency Headquarters employees who telecommute and may possess Associated Headquarters Files (or copies of such files) at alternative worksites or who may access RAILS from alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

RAILS information will be retained and disposed of in accordance with appropriate Agency schedules that will be submitted to the National Archives and Records Administration (NARA) for its approval. Associated Headquarters Files are disposed of in accordance with the Agency's Disposition Standards Records, as approved by NARA.

SYSTEM MANAGER AND ADDRESS:

Associate General Counsel, Division of Advice, National Labor Relations Board, Room 10400, 1099 14th Street, NW., Washington, DC 20570-0001.

NOTIFICATION PROCEDURE:

This system is exempt from this provision of the Privacy Act pursuant to 5 U.S.C. 552a(k)(2).

RECORD ACCESS PROCEDURE:

This system is exempt from this provision of the Privacy Act pursuant to 5 U.S.C. 552a(k)(2).

CONTESTING RECORD PROCEDURE:

This system is exempt from this provision of the Privacy Act pursuant to 5 U.S.C. 552a(k)(2).

RECORDS SOURCE CATEGORIES:

This system is exempt from this provision of the Privacy Act pursuant to 5 U.S.C. 552a(k)(2).

EXEMPTIONS CLAIMED FOR THE SYSTEM:

Pursuant to 5 U.S.C. 552a(k)(2), the Agency has exempted this system from the following provisions of the Privacy Act: 5 U.S.C. 552a(c)(3), (d), (e)(1), (e)(4)(G), (e)(4)(H), (e)(4)(I), and (f).

NLRB-29

SYSTEM NAME:

Work in Progress (WIP) and Associated Headquarters Files.

SECURITY CLASSIFICATION:

None.

SYSTEM LOCATION:

Records are stored on paper and electronic media at Agency Headquarters, Division of Advice, Office of Legal Research and Policy Planning, 1099 14th Street, NW., Washington, DC 20570. Additionally, pursuant to the Agency's flexiplace and telecommuting programs, or due to official travel, Associated Headquarters Files (or copies of such files) also may be temporarily located at alternative worksites. All appropriate safeguards will be taken at these sites.

CATEGORIES OF INDIVIDUALS COVERED BY THE SYSTEM:

Individual parties in cases decided by the Board and related court cases; current and former Agency employees assigned to cases.

CATEGORIES OF RECORDS IN THE SYSTEM:

(1) Summary information of the Agency's internal legal research database of Board and related court decisions, including summaries and classifications of those decisions, names of parties in decisions, work completion status, and Agency personnel assignments, is maintained in an electronic case tracking system, WIP. (2) Associated Headquarters Files are paper records established and maintained to create summaries and classifications of Board and related court decisions. The paper records include the names of current and former Agency employees assigned to create the summaries and classifications, as well as Board and federal court decisions.

AUTHORITY FOR MAINTENANCE OF THE SYSTEM:

29 U.S.C. 153(d), 160; 44 U.S.C. 3101.

PURPOSE:

WIP is an electronic case tracking system used by the Legal Research and Policy Planning Branch to collect, classify and summarize decisions issued by the Board and courts, as well as to store, maintain and retrieve the classifications and summaries. The information and activities tracked by the system may be generated by the issuance of Board and court decisions, or by the commencement or completion of work by Agency employees. This database stores current and historical information, and is used to generate data for case assignment. The classifications and summaries are also published in the Classified Index of National Labor Relations Board Decisions and Related Court Decisions, as well as on a public electronic research database called CITENET. The Associated Headquarters Files are paper files maintained to aid in preparing the classifications and summaries. WIP and the Associated Headquarters Files may also be used to assist in evaluating Agency employee performance.

ROUTINE USES OF RECORDS MAINTAINED IN THE SYSTEM, INCLUDING CATEGORIES OF USERS AND THE PURPOSE OF SUCH USES:

The standard routine uses applying to this system are those listed in the General Prefatory Statement to this document, items numbered 7-10 and 12-15 only.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by names of individual parties in cases decided by the Board and related court cases; current and former Agency employees assigned to cases; as well as by non-personal identifiers, such as Agency case numbers.

SAFEGUARDS:

Access to Agency working and storage areas is restricted to Agency employees who have a need to use the information in order to perform their duties, custodial personnel, Federal Protective Service personnel, and other contractor and security personnel. All other persons are required to be escorted in Agency areas. Associated Headquarters Files are maintained in staffed or locked areas during working hours. The facilities are protected from unauthorized access during non-working hours by the Federal Protective Service or other security personnel. Those Agency Headquarters employees who telecommute and may possess Associated Headquarters Files (or copies of such files) at alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

WIP information will be retained and disposed of in accordance with appropriate Agency schedules that will be submitted to the National Archives and Records Administration (NARA) for its approval. Associated Headquarters Files are disposed of in accordance with the Agency's Disposition Standards Records, as approved by NARA.

SYSTEM MANAGER AND ADDRESS:

Assistant General Counsel, Legal Research and Policy Planning Branch, Division of Advice, National Labor Relations Board, Room 10600, 1099 14th Street, NW., Washington, DC 20570-0001.

NOTIFICATION PROCEDURE:

An individual may inquire as to whether this system contains a record pertaining to such individual by directing a request to the System Manager in accordance with the procedures set forth in 29 CFR 102.117a(a) (as newly designated in accompanying proposed amended regulations).

RECORD ACCESS PROCEDURE:

An individual seeking to gain access to records in this system pertaining to such individual should contact the System Manager in accordance with the procedures set forth in 29 CFR 102.117a(b) and (c) (as newly designated in accompanying proposed amended regulations).

CONTESTING RECORD PROCEDURE:

An individual may request amendment of a record in this system pertaining to such individual by directing a request to the System Manager in accordance with the procedures set forth in 29 CFR 102.117a(d) (as newly designated in accompanying proposed amended regulations).

RECORDS SOURCE CATEGORIES:

Record source categories include Board and federal court decisions, and current and former Agency employees of the Legal Research and Policy Planning Branch.

EXEMPTIONS CLAIMED FOR THE SYSTEM:

None.

NLRB-30

SYSTEM NAME:

Appeals Case Tracking System (ACTS) and Associated Headquarters Files.

SECURITY CLASSIFICATION:

None.

SYSTEM LOCATION:

Records are stored on paper and electronic media at Agency Headquarters, Office of Appeals, Division of Enforcement Litigation, 1099 14th Street, NW., Washington, DC 20570. Additionally, pursuant to the Agency's flexiplace and telecommuting programs, or due to official travel, ACTS may also be accessed from alternative worksites via the Internet, including employees' homes. Associated Headquarters Files (or copies of such files) also may be temporarily located at alternative worksites. All appropriate safeguards will be taken at these sites.

CATEGORIES OF INDIVIDUALS COVERED BY THE SYSTEM:

Individual parties in unfair labor practice cases in which appeals of Regional Directors' dismissals of charges or limited other decisions have been filed with the Office of Appeals; current and former Agency employees assigned to cases.

CATEGORIES OF RECORDS IN THE SYSTEM:

(1) Summary information of appeals in unfair labor practice cases in which appeals of Regional Directors' dismissals of charges or limited other decisions have been filed with the Office of Appeals (such as names of parties, case status, and Agency personnel assignments) is maintained in an electronic case tracking system, ACTS. (2) Associated Headquarters Files are paper records used for processing appeals of Regional Directors' dismissals of unfair labor practice charges and limited other decisions by Regional Directors. The paper records are administrative records (such as unfair labor practice charges, party position statements, Regional Directors' determinations), correspondence, legal research memoranda, and other related documents. These records include the names of parties and current and former Agency employees assigned to cases. Both ACTS and the Associated Headquarters Files may include parties' home addresses and home telephone numbers, if such information is provided to the Agency. These records include civil investigatory and law enforcement information.

AUTHORITY FOR MAINTENANCE OF THE SYSTEM:

29 U.S.C. 153(d); 44 U.S.C. 3101.

PURPOSE:

ACTS is an electronic case tracking system used by the Office of Appeals to facilitate the accurate and timely collection, retrieval, and retention of information regarding appeals of decisions of Regional Directors, including decisions dismissing unfair labor practice charges, deferring proceedings to parties' contractual grievance-arbitration processes, or closing unfair labor practice cases upon compliance action. The information and activities tracked by the system may be generated by the parties' filing of appeals and position statements, or by deliberative, analytical processes undertaken by Agency employees. This database stores current and historical information, and is used to generate data for managing the Agency's case processing and resources, creating the Agency's budget, preparing monthly and annual reports of casehandling activities, and providing requested statistical reports to the public. The Associated Headquarters Files are paper files maintained to resolve matters handled by the Office of Appeals. ACTS and the Associated Headquarters Files may also be used to assist in evaluating Agency employee performance.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by names of individual parties in unfair labor practice cases in which appeals of Regional Directors' dismissals of charges or limited other decisions have been filed with the Office of Appeals; names of current and former Agency employees assigned to cases; as well as by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. Associated Headquarters Files are maintained in staffed or locked areas during working hours. The facilities are protected from unauthorized access during non-working hours by the Federal Protective Service or other security personnel. Those Agency Headquarters employees who telecommute and may possess Associated Headquarters Files (or copies of such files) at alternative worksites or who may access ACTS from alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

ACTS information will be retained and disposed of in accordance with appropriate Agency schedules that will be submitted to the National Archives and Records Administration (NARA) for its approval. Associated Headquarters Files are disposed of in accordance with the Agency's Disposition Standards Records, as approved by NARA.

SYSTEM MANAGER AND ADDRESS:

Director, Office of Appeals, National Labor Relations Board, Room 8820, 1099 14th Street, NW., Washington, DC 20570-0001.

NOTIFICATION PROCEDURE:

This system is exempt from this provision of the Privacy Act pursuant to 5 U.S.C. 552a(k)(2).

RECORD ACCESS PROCEDURE:

This system is exempt from this provision of the Privacy Act pursuant to 5 U.S.C. 552a(k)(2).

CONTESTING RECORD PROCEDURE:

This system is exempt from this provision of the Privacy Act pursuant to 5 U.S.C. 552a(k)(2).

RECORDS SOURCE CATEGORIES:

This system is exempt from this provision of the Privacy Act pursuant to 5 U.S.C. 552a(k)(2).

EXEMPTIONS CLAIMED FOR THE SYSTEM:

Pursuant to 5 U.S.C. 552a(k)(2), the Agency has exempted this system from the following provisions of the Privacy Act: 5 U.S.C. 552a (c)(3), (d), (e)(1), (e)(4)(G), (e)(4)(H), (e)(4)(I), and (f).

NLRB-31

SYSTEM NAME:

Office of Appeals Extension of Time System (EOTS).

SECURITY CLASSIFICATION:

None.

SYSTEM LOCATION:

Records are stored on electronic media at Agency Headquarters, Office of Appeals, Division of Enforcement Litigation, 1099 14th Street, NW., Washington, DC 20570-0001.

CATEGORIES OF INDIVIDUALS COVERED BY THE SYSTEM:

Individual Charged Parties in unfair labor practice proceedings in which charging parties have electronically requested extensions of time from the Office of Appeals to file appeals of dismissals of charges or limited other decisions of Regional Directors.

CATEGORIES OF RECORDS IN THE SYSTEM:

Summary information of cases in which Charging Parties in unfair labor practice proceedings who have electronically requested extensions of time to file appeals of dismissals of charges or limited other decisions of Regional Directors (such as names of parties, case status, and Agency personnel assignments) is maintained in an electronic case tracking system, EOTS. The system includes information relevant to extension of time requests such as the current due date for the appeal, the requested due date, the reasons for the requested extension of time, and whether the request has been granted or denied. EOTS may include individual parties' home addresses and home telephone numbers, if such information is provided to the Agency. Any paper records associated with EOTS are placed within the Associated Headquarters Files for ACTS (NLRB-30).

AUTHORITY FOR MAINTENANCE OF THE SYSTEM:

29 U.S.C. 153(d); 44 U.S.C. 3101.

PURPOSE:

EOTS is an electronic case tracking system used by the Office of Appeals to enable parties in an unfair labor practice proceeding to request extensions of time to appeal decisions of Regional Directors dismissing unfair labor practice charges, deferring proceedings to parties' contractual grievance-arbitration processes, or closing unfair labor practice cases upon compliance action. The system is also used to notify Regional Offices that requests for extensions of time have been received. The information and activities tracked by the system may be generated by the parties' requests for extensions of time, or by the Office of Appeals' responses to those requests. This database stores current and historical information, and is used to generate data for managing the Agency's case processing and resources, creating the Agency's budget, preparing monthly and annual reports of casehandling activities, and providing requested statistical reports to the public.

ROUTINE USES OF RECORDS MAINTAINED IN THE SYSTEM, INCLUDING CATEGORIES OF USERS AND THE PURPOSE OF SUCH USES:

The standard routine uses applying to this system are those listed in the General Prefatory Statement to this document, items numbered 4, 7-10, and 12-15 only.

DISCLOSURE TO CONSUMER REPORTING AGENCIES:

None.

POLICIES AND PRACTICES FOR STORING, RETRIEVING, ACCESSING, RETAINING, AND DISPOSING OF RECORDS IN THE SYSTEM:

STORAGE:

Data is maintained on electronic media.

RETRIEVABILITY:

Data may be retrieved by names of individual Charged Parties in unfair labor practice proceedings in which charging parties have electronically requested extensions of time to file appeals of dismissals of charges or limited other decisions of Regional Directors; and non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. The facilities are protected from unauthorized access during non-working hours by the Federal Protective Service or other security personnel. Those Agency Headquarters employees who telecommute and may access EOTS from alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

EOTS information will be retained and disposed of in accordance with appropriate Agency schedules that will be submitted to the National Archives and Records Administration (NARA) for its approval.

SYSTEM MANAGER AND ADDRESS:

Director, Office of Appeals, National Labor Relations Board, Room 8820, 1099 14th Street, NW., Washington, DC 20570-0001.

NOTIFICATION PROCEDURE:

An individual may inquire as to whether this system contains a record pertaining to such individual by directing a request to the System Manager in accordance with the procedures set forth in 29 CFR 102.117a(a) (as newly designated in accompanying proposed amended regulations).

RECORD ACCESS PROCEDURE:

An individual seeking to gain access to records in this system pertaining to such individual should contact the System Manager in accordance with the procedures set forth in 29 CFR 102.117a(b) and (c) (as newly designated in accompanying proposed amended regulations).

CONTESTING RECORD PROCEDURE:

An individual may request amendment of a record in this system pertaining to such individual by directing a request to the System Manager in accordance with the procedures set forth in 29 CFR 102.117a(d) (as newly designated in accompanying proposed amended regulations).

RECORDS SOURCE CATEGORIES:

Record source categories include charging parties in unfair labor practice cases; party representatives; and also include official documents from the record of unfair labor practice cases, such as unfair labor practice charges and Regional Directors' dismissals.

EXEMPTIONS CLAIMED FOR THE SYSTEM:

None.

NLRB-32

SYSTEM NAME:

Freedom of Information Act Tracking System (FTS) and Associated Agency Files.

SECURITY CLASSIFICATION:

None.

SYSTEM LOCATION:

Records are stored on paper and electronic media at Agency Headquarters and the Regional Offices. See attached Appendix for addresses. Additionally, pursuant to the Agency's flexiplace and telecommuting programs, or due to official travel, FTS may also be accessed from alternative worksites via the Internet, including employees' homes. Associated Agency Files (or copies of such files) also may be temporarily located at alternative worksites. All appropriate safeguards will be taken at these sites.

CATEGORIES OF INDIVIDUALS COVERED BY THE SYSTEM:

Individuals making FOIA requests for documents maintained by the Agency and those requesters appealing initial agency FOIA determinations (“FOIA appellants”); individual parties in Agency and related judicial proceedings named in FOIA requests; current and former Agency employees assigned to process FOIA requests and appeals.

CATEGORIES OF RECORDS IN THE SYSTEM:

(1) Summary information of FOIA requests and appeals made to the Agency (such as requester contact information, assumption of fees information, request information, appeal information, and Agency personnel assigned to process FOIA requests) is maintained in an electronic case tracking system, FTS. (2) Associated Agency Files are paper records concerning the processing of initial FOIA requests to the Agency and appeals of those initial determinations. The paper records are administrative records (such as FOIA requests, initial Agency determinations, documents responsive to the FOIA requests, documents withheld from FOIA requesters, final Agency determinations on appeal, and bills to the requesters for chargeable fees), correspondence, legal research memoranda, and other related documents. Both FTS and the Associated Agency Files may include FOIA requesters' and FOIA appellants' home addresses and home telephone numbers, if such information is provided to the Agency. Portions of these records include civil investigatory and law enforcement information contained in the requested documents at issue.

AUTHORITY FOR MAINTENANCE OF THE SYSTEM:

5 U.S.C. 552; 44 U.S.C. 3101.

PURPOSE:

FTS is an electronic case tracking system used by the Legal Research Section, the Regional Offices, the Office of Appeals, the Office of the Executive Secretary, and the Office of the Solicitor to facilitate the accurate and timely collection, retrieval, and retention of information to track FOIA requests from the public for documents maintained by the Agency, as well as appeals of Agency FOIA determinations. The information and activities tracked by the system may be generated by the parties' filing of FOIA requests, the issuance of initial FOIA determinations, the parties' filing of FOIA appeals, and the Agency's final determinations. FTS is used to track the processing of FOIA requests from initial receipt of requests through Agency determination on appeal, the nature of records sought, exemptions claimed by the Agency in initial determinations, processing time, and any fee charges. This database stores current and historical information, and is used to generate data for managing the Agency's resources, creating the Agency's budget, preparing monthly and annual reports of casehandling activities, and providing requested statistical reports to the public. The Associated Agency Files are paper files maintained to document FOIA requests and FOIA appeals handled by the Agency. FTS and the Associated Agency Files may also be used to assist in evaluating Agency employee performance.

ROUTINE USES OF RECORDS MAINTAINED IN THE SYSTEM, INCLUDING CATEGORIES OF USERS AND THE PURPOSE OF SUCH USES:

The standard routine uses applying to this system are listed in the General Prefatory Statement to this document.

DISCLOSURE TO CONSUMER REPORTING AGENCIES:

None.

POLICIES AND PRACTICES FOR STORING, RETRIEVING, ACCESSING, RETAINING, AND DISPOSING OF RECORDS IN THE SYSTEM:

STORAGE:

Data is maintained on paper and electronic media.

RETRIEVABILITY:

Data may be retrieved by individual names of those making FOIA requests and FOIA appeals to the Agency; names of parties in Agency or related judicial proceedings named in FOIA requests, names of current and former Agency employees assigned to cases; as well as by non-personal identifiers, such as case numbers assigned by the Agency.

SAFEGUARDS:

Access to Agency working and storage areas is restricted to Agency employees who have a need to use the information in order to perform their duties, custodial personnel, Federal Protective Service personnel, and other contractor and security personnel. All other persons are required to be escorted in Agency areas. Associated Headquarters Files are maintained in staffed or locked areas during working hours. The facilities are protected from unauthorized access during non-working hours by the Federal Protective Service or other security personnel. Those Agency Headquarters employees who telecommute and may possess Associated Headquarters Files (or copies of such files) at alternative worksites or who may access FTS from alternative worksites are instructed as to keeping such information in a secure manner.

Electronic system-based access controls are in place to prevent data misuse. Access to electronic information is controlled by administrators who determine users' authorized access based on each user's office and position within the office. Access criteria, procedures, controls, and responsibilities are documented and consistent with the policies stated in a memorandum titled “NLRB Access Control Standards, Password Management,” and dated January 23, 2002. All network users are also warned at the time of each network login that the system is for use by authorized users only, and that unauthorized or improper use is a violation of law.

RETENTION AND DISPOSAL:

FTS information will be retained and disposed of in accordance with appropriate Agency schedules that will be submitted to the National Archives and Records Administration (NARA) for its approval. Associated Agency Files are disposed of in accordance with the Agency's Disposition Standards Records, as approved by NARA.

SYSTEM MANAGER AND ADDRESS:

Assistant General Counsel/Freedom of Information Officer, Legal Research and Policy Planning Branch, Division of Advice, National Labor Relations Board, Room 10600, 1099 14th Street, NW., Washington, DC 20570-0001.

NOTIFICATION PROCEDURES:

For records not exempted under 5 U.S.C. 552a(k)(2) of the Privacy Act, an individual may inquire as to whether this system contains a record pertaining to such individual by directing a request to the System Manager in accordance with the procedures set forth in 29 CFR § 102.117a(a) (as newly designated in accompanying proposed amended regulations).

RECORD ACCESS PROCEDURE:

For records not exempted under 5 U.S.C. 552a(k)(2) of the Privacy Act, an individual seeking to gain access to records in this system pertaining to such individual should contact the System Manager in accordance with the procedures set forth in 29 CFR § 102.117a(b) and (c) (as newly designated in accompanying proposed amended regulations).

CONTESTING RECORD PROCEDURE:

For records not exempted under 5 U.S.C. 552a(k)(2) of the Privacy Act, an individual may request amendment of a record in this system pertaining to such individual by directing a request to the System Manager in accordance with the procedures set forth in 29 CFR § 102.117a(d) (as newly designated in accompanying proposed amended regulations).

RECORDS SOURCE CATEGORIES:

For records not exempted under 5 U.S.C. 552a(k)(2) of the Privacy Act, record source categories include Agency employees processing FOIA requests, FOIA requesters and appellants, and documents relating to the processing of a FOIA request.

EXEMPTIONS CLAIMED FOR THE SYSTEM:

Pursuant to 5 U.S.C. 552a(k)(2), the Agency has exempted portions of this system, including investigatory material compiled for law enforcement purposes and requested under the FOIA, from the following provisions of the Privacy Act: 5 U.S.C. 552a (c)(3), (d), (e)(1), (e)(4)(G), (e)(4)(H), (e)(4)(l), and (f).

Dated: Washington, DC.

By direction of the Board.

Lester A. Heltzer,

Executive Secretary

Names and Addresses of NLRB Offices Referenced in Notice of Records Systems Shown Above

NLRB Headquarters Offices, 1099 14th Street, NW, Washington, DC 20570-0001

Offices of the Board

Members of the Board

NLRB

Executive Secretary

Office of the Executive Secretary, Director

Office of Representation Appeals, Director

Division of Information

Solicitor

Inspector General

Office of Inspector General

Division of Judges, Chief Administrative Law Judge, 1099 14th Street, NW, Room 5400 East, Washington, DC 20570-0001

Associate Chief Administrative Law Judge, San Francisco Judges, 901 Market Street, Suite 300, San Francisco, California 94103-1779

Associate Chief Administrative Law Judge, New York Judges, 120 West 45th Street, 11th Floor, New York, New York 10036-5503

Associate Chief Administrative Law Judge, Atlanta Judges, Peachtree Summit Building, 401 W. Peachtree Street, NE, Suite 1708, Atlanta, Georgia 30308-3510

Offices of the General Counsel

General Counsel

Associate General Counsel

Division of Operations Management

Associate General Counsel

Division of Advice

Associate General Counsel

Division of Enforcement Litigation, Director

Division of Administration, Director

Equal Employment Opportunity

NLRB Field Offices

Regional Director, Region 1, 10 Causeway Street, Room 601, Boston, Massachusetts 02222-1072

Regional Director, Region 2, 26 Federal Plaza, Room 3614, New York, New York 10278-0104

Regional Director, Region 3, Niagara Center Building, 130 South Elmwood Avenue, 6th Floor, Buffalo, New York 14202-2465

Resident Officer, Leo W. O'Brien Federal Building, Clinton Avenue and N. Pearl Street, Room 342, Albany, New York 12207-2350

Regional Director, Region 4, 615 Chestnut Street, 7th Floor, Philadelphia, Pennsylvania 19106-4404

Regional Director, Region 5, The Appraisers Store Building, 103 South Gay Street, 8th Floor, Baltimore, Maryland 21202-4061?????

Resident Officer, Washington Resident Office, 1099 14th Street, NW—Suite 5530, Washington, DC 20570-0001

Regional Director, Region 6, Two Chatham Center, 112 Washington Place, Suite 510, Pittsburgh Pennsylvania 15219-3458

Regional Director, Region 7, 477 Michigan Avenue—Room 300, Detroit, Michigan 48226-2569

Resident Officer, Grand Rapids Resident Office, 82 Ionia NW—Room 330, Grand Rapids, Michigan 49503-3022

Regional Director, Region 8, 1240 East 9th Street—Room 1695, Cleveland, Ohio 44199-2086

Regional Director, Region 9, John Weld Peck Federal Building, 550 Main Street—Room 3003, Cincinnati, Ohio 45202-3271

Regional Director, Region 10, 233 Peachtree Street NE, Harris Tower, Suite 1000, Atlanta, Georgia 30303-1531

Resident Officer, Ridge Park Place, Suite 3400, 1130 South 22nd Street, Birmingham, Alabama 35205-2870

Regional Director, Region 11, Republic Square, Suite 200, 4035 University Parkway, Winston Salem, North Carolina 27106-3323 or P.O. Box 11467, Winston-Salem, North Carolina 27116-1467

Regional Director, Region 12, 201 East Kennedy Boulevard, Suite 530, Tampa, Florida 33602-5824

Resident Officer, 550 Water Street, Suite 340, Jacksonville, Florida 32202-5177

Resident Officer, Federal Building, Room 1320, 511 SW 1st Avenue, Miami, Florida 33130-1623

Regional Director, Region 13, The Rookery Building, 209 South LaSalle Street, Suite 900, Chicago, Illinois 60604-1219

Regional Director, Region 14, 1222 Spruce Street, Room 8.302, Saint Louis, Missouri 63103-2829

Officer in Charge, Subregion 33, Hamilton Square Building, Suite 200, 300 Hamilton Boulevard, Peoria, Illinois 61602-1246

Regional Director, Region 15, 1515 Poydras Street, Room 610, New Orleans, Louisiana 70112-3723

Regional Director, Region 16, 819 Taylor Street, Room 8A24, Fort Worth, Texas 76102-6178

Resident Officer, Mickey Leland Federal Building, 1919 Smith Street, Suite 1545, Houston, Texas 77002

Resident Officer, San Antonio Resident Office, Travis Park Plaza building, 711 Navarro Street, Suite 705, San Antonio, Texas 78205-1711

Regional Director, Region 17, 8600 Farley Street, Suite 100, Overland Park, Kansas 66212-4677

Resident Officer, 224 South Boulder Avenue, Room 318, Tulsa, Oklahoma 74103-3027

Regional Director, Region 18, 330 South Second Avenue, Suite 790, Minneapolis, Minnesota 55401-2221

Resident Officer, 210 Walnut Street, Room 439, Des Moines, Iowa 50309-2103

Regional Director, Region 19, 915 Second Avenue, Room 2948, Seattle, Washington 98174-1078

Resident Officer, Elevation 92 Building, 1007 West 3rd Avenue, Suite 206, Anchorage, Alaska 99501-1936

Officer in Charge—Subregion 36, 601 SW 2nd Avenue, Suite 1910, Portland, Oregon 97204-3170

Regional Director, Region 20, 901 Market Street, Suite 400, San Francisco, California 94103-1735

Officer in Charge—Subregion 37, 300 Ala Moana Boulevard, Room 7-245, Honolulu, Hawaii 96850-4980

Regional Director, Region 21, 888 South Figueroa Street, 9th Floor, Los Angeles, California 90017-5449

Resident Officer, 555 West Beech Street, Room 418, San Diego, California 92101-2939

Regional Director, Region 22, 20 Washington Place, 5th Floor, Newark, New Jersey 07102-3110

Regional Director, Region 24, Hato Rey, PR, La Torre de Plaza, Suite 1002, 525 F.D. Roosevelt Avenue, San Juan, Puerto Rico 00918-1002

Regional Director, Region 25, 575 North Pennsylvania Street—Room 238, Indianapolis, Indiana 46204-1577

Region Director, Region 26, The Brinkley Plaza Building, Suite 350, 80 Monroe Avenue, Memphis, Tennessee 38103-2416

Resident Officer, Metropolitan National Bank Building, 425 West Capitol Avenue, Suite 1615, Little Rock, Arkansas 72201-3489

Resident Officer, Nashville Resident Office, 810 Broadway, Suite 320, Nashville, Tennessee 37203-3859

Regional Director, Region 27, 600 17th Street, 7th Floor, North Tower, Denver, Colorado 80202-5433

Regional Director, Region 28, 2600 North Central Avenue, Suite 1800, Phoenix, Arizona 85004-3099

Resident Officer, 505 Marquette Avenue, NW, Suite 1820, Albuquerque, New Mexico 87102-2181

Resident Officer, 600 Las Vegas Boulevard South, Suite 400, Las Vegas, Nevada 89101-6637

Regional Director, Region 29, Two Metro Tech Center, 100 Myrtle Avenue—5th Floor, Brooklyn, New York 11201-4201

Regional Director, Region 30, 310 West Wisconsin Avenue, Suite 700, Milwaukee, Wisconsin 53203-2211

Regional Director, Region 31, 11150 West Olympic Boulevard, Suite 700, Los Angeles, California 90064-1824

Regional Director, Region 32, Ronald V. Dellums Federal Building and Courthouse, 1301 Clay Street, Suite 300N, Oakland, California 94612-5211

Regional Director, Region 34, 280 Trumbull Street, 21st Floor, Hartford, Connecticut 06103-3503

[FR Doc. 06-9683 Filed 12-12-06; 8:45 am]

BILLING CODE 7545-01-P